DEPARTMENT OF ENERGY

Federal Energy Regulatory Commission

[Docket No. CP01-17-00]

Algonquin Gas Transmission Company; Notice of Request Under Blanket Authorization

October 25, 2000.

Take notice that on October 18, 2000 Algonquin Gas Transmission Company (Algonquin), 5400 Westheimer Court, Houston, Texas 77056-5310, filed in Docket No. CP01-17-000, a request pursuant to § 157.205 and 157.211 of the Commission's regulations under the Natural Gas Act (18 CFR 157.205 and 175.211). Algonquin requests authorization to install, own, operate and maintain a new point of delivery and short spur lateral along its existing 6-inch and 12-inch laterals in New London County, Connecticut, to make natural gas deliveries to Phelps Dodge Copper Products Company (Phelps Dodge), an industrial end user near Norwich, Connecticut.

Algonquin requests this authorization pursuant to its blanket facilities certificate of public convenience and necessity, as more fully set forth in the application which is on file with the Commission and open to public inspection. This application may be viewed on the Internet at http://www.ferc.fed.us/online/rims.htm (call 202-208-2222 for0 assistance). The name, address, and telephone number of the applicant's representative, to whom correspondence and communications concerning this application should be addressed is: Steven E. Tillman, Director of Regulatory Affairs, Algonquin Gas Transmission Company, P.O. Box 1642 Houston, Texas 77251-1642, (713) 627-5113 (Phone) or (713) 627-5947 (Fax).

Algonquin proposes to construct and install dual 6-inch tap valves, 6-inch check values and 6-inch insulating flanges near Mile Post 17.0 of its existing E-1L 12-inch Lateral and the E-1 6-inch Lateral in New London County, including all piping between such tap valves, check valves and insulating flanges or above ground riser piping. The short spur lateral from the above delivery tap to the Phelps Dodge plant would be located between the Yantic River and Otrobando Avenue and will consist of about 1,565 feet of buried 6-inch pipe and an electric gas measurement meter station at the plant. Algonquin says that Phelps Dodge will reimburse Algonquin for 100% of the projects cost, abut $1,450,000.

Algonquin says that the related transportation service for Phelps Dodge of up to 3,800 Dth per day will be rendered pursuant to Algonquin's open access rate schedules. Further, Algonquin says that the transportation service for Phelps Dodge will be performed using existing capacity on Algonquin submits that its proposal will be accomplished without detriment or disadvantage to its other customers.

Any person or the Commission's staff may, within 45 days after issuance of the this notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefore, the proposed activity shall be deemed to be authorized effective the day after the time allowed for filing a protest. If a protest is filed and not withdrawn within 30 days after the time allowed filing a protest, this request shall be treated as an application for authorization pursuant to Section 7 of the Natural Gas Act. Beginning November 1, 2000, comments and protests may be filed electronically via the Internet in lieu of paper. See, 18 CFR 385.2001(a)(1)(iii) and the instructions on the Commission's web site; http://www.ferc.fed.us/efi/doorbell.htm.

David P. Boergers,
Secretary.

[FR Doc. 00-27848 Filed 10-30-00; 8:45 am]

BILLING CODE 6717-01-M